DEPARTMENT OF LABOR

Employment and Training Administration

[TA-W-59,452]

Insight Direct USA, Working at Allegheny Energy, Greensburg, PA; Notice of Termination of Investigation

Pursuant to Section 221 of the Trade Act of 1974, as amended, an investigation was initiated on May 24, 2006 in response to a petition filed on behalf of workers of Insight Direct USA, working at Allegheny Energy, Greensburg, Pennsylvania.

The petition has been deemed invalid. The petition was signed by one worker instead of the required three workers. Consequently, the investigation has been terminated.

Signed at Washington, DC this 12th day of June 2006.
Linda G. Poole,
Certifying Officer, Division of Trade Adjustment Assistance.

[FR Doc. E6-10519 Filed 7-5-06; 8:45 am]

BILLING CODE 4510-30-P